DEPARTMENT OF COMMERCE

International Trade Administration

Export Trade Certificate of Review

ACTION: Notice of Application to Amend Certificate.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Vanessa M. Bachman, Acting Director, Office of Export Trading Company Affairs, International Trade Administration, oetca@ita.doc.gov or (202) 482-5131. This is not a toll-free number. In addition, the Office's website may be consulted at http://www.ita.doc.gov/oetca.

SUPPLEMENTARY INFORMATION: Title III of the Export Trading Company Act of 1982 (15 U.S.C. 4001 et seq.) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302 (b) (1) of the Export Trading Company Act of 1982 and 15 CFR 325.6 (a) require the Secretary to publish a notice in the Federal Register identifying the applicant and summarizing its proposed export conduct.

Request for Public Comments

Interested parties may submit written comments relevant to the determination whether an amended Certificate should be issued. If the comments include any privileged or confidential business information, it must be clearly marked and a non-confidential version of the comments (identified as such) should be included. Any comments not marked privileged or confidential business information will be deemed to be non-confidential. An original and five copies, plus two copies of the non-confidential version, should be submitted by mail to: Office of Export Trading Company Affairs, International Trade Administration, Department of Commerce, Room 1104H, Washington D.C. 20230; or by E-mail to oetca@ita.doc.gov no later than 20 days after the date of this notice. Information submitted by any person is exempt from disclosure under the Freedom of Information Act (5 U.S.C. 552). However, non-confidential versions of the comments will be made available to the applicant if necessary for determining whether or not to issue the certificate. Comments should refer to this application as “Export Trade Certificate of Review, application number 85-9A018.”

The United States Shippers' Association (“USSA”) original Certificate was issued on June 3, 1986 (51 FR 20873, June 9, 1986), and last amended on May 28, 1999 (64 FR 29994, June 4, 1999). A summary of the application for an amendment follows.

Summary of the Application

Applicant: The United States Shippers' Association (“USSA”), 1209 Orange Street, Wilmington, Delaware 19801.

Contact: Karin Kizer, Legal Counsel, Telephone: (202) 662-6000.

Application No.: 85-9A018.

Date Deemed Submitted: April 3, 2001.

Proposed Amendment: USSA seeks to amend its Certificate to:

1. Add the following companies as new “Members” of the Certificate within the meaning of section 325.2 (1) of the Regulations (15 C.F.R. 325.2 (1)): Basell USA Inc., Wilmington, DE (Controlling Entity: Basell NV., Hoofddorp, The Netherlands); Resolution Performance Products LLC, Houston, TX; (Controlling Entity: Apollo Management LP, New York, NY); KRATON Polymers U.S. LLC (Controlling Entity: R.K. Polymers LLC, New York, NY); Aventis Crop Science, USA LP (Controlling Entity: Aventis Crop Science Holding SA, Lyon, France);

2. Change the listing of current member Rhodia, Inc., Cranberry, NJ (Controlling Entity: Rhone-Poulenc, S.A., Courbevoie, France) to Rhodia, Inc., Cranberry, NJ (Controlling Entity: Rhodia, S.A., Boulonge-Billancourt, France);

3. Delete the following members: ANGUS Chemical Company, Buffalo Grove, IL (Controlling Entity: Alberta Natural Gas, Alberta, Canada); Nova Chemicals Inc., Monaca, PA; Rhone-Poulenc AG Company, Research Triangle Park, NC (Controlling Entity: Rhone-Poulenc, S.A., Courbevoie, France); and Rhone-Poulenc Animal Nutrition, Atlanta, GA (Controlling Entity: Rhone-Poulenc, S.A., Courbevoie, France);

4. Add the following to the “Definitions” section of the Certificate: “Consultant” means any individual, corporation, partnership, limited liability company retained by USSA to act on USSA's behalf in administrative, negotiating and coordinating activities authorized by the Certificate;” and

5. Add the term “Consultants” to those listed in the “Protection Provided by the Certificate” section of the Certificate.

Dated: April 12, 2001.
Vanessa M. Bachman,
Acting Director, Office of Export Trading Company Affairs.

[FR Doc. 01-9612 Filed 4-17-01; 8:45 am]

BILLING CODE 3510-DR-U